DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

New York & Lake Erie Railroad

[Docket Number FRA-2004-19950]

The New York & Lake Erie Railroad (NYLE) of Gowanda, New York, has petitioned for a permanent waiver of compliance for two locomotives, numbered NYLE 1013 and NYLE 308, from the requirements of the Railroad Safety Glazing Standards, Title 49 CFR Part 223, which requires certified glazing in all windows.

The types of glazing currently used in the two locomotives are as follows: NYLE 1013—Laminated Safety Glass AS-1, DOT 14M-220-ASI-030, and NYLE 308—Clear Laminated Safety Glass AS-2 101. NYLE is a short line freight carrier which travels 29.5 miles through rural countryside and small communities on an average of 1½ times per week. The number of cars hauled per train is five cars or less. NYLE operates on two line segments which are connected and extend from Cattaraugus, NY, to Dayton, NY (10.1 miles), and from Conewango Valley, NY, to Gowanda, NY (19.4 miles). All freight is interchanged in Gowanda, NY.

NYLE states that there has been no problem with window breakage due to vandalism and that they have not had to replace glass due to breakage from flying objects. Because of low risk of exposure to their crew in the area they serve to injury due to vandalism and the fairly substantial cost of the glazing materials involved, NYLE is requesting the waiver of this regulation for the two locomotives listed above.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-19950) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on April 13, 2010.
Grady C. Cothen, Jr.,
Deputy Associate Administrator for Safety Standards and Program Development.

[FR Doc. 2010-8760 Filed 4-15-10; 8:45 am]

BILLING CODE 4910-06-P